DEPARTMENT OF TRANSPORTATION

Pipeline and Hazardous Materials Safety Administration

[Docket No. PHMSA-2009-0377]

Pipeline Safety: Request To Modify Special Permit

AGENCY: Pipeline and Hazardous Materials Safety Administration (PHMSA); DOT.

ACTION: Notice; Reopening of Comment Period on the Kern River Gas Transmission Company's Request to Modify Condition 35 of a Previously Issued Special Permit.

SUMMARY: PHMSA is reopening the comment period for its Federal Register Notice issued on November 17, 2009 (73 FR 59342), that gave notice of a request from the Kern River Gas Transmission Company (Kern River), for modification of an existing special permit, PHMSA-2007-29078, granted to the company on November 8, 2008. Kern River seeks modification of Condition 35 of the special permit, which concerns the external coating on its gas pipeline.

DATES: Submit any comments regarding this special permit modification request by February 9, 2010.

ADDRESSES: Comments should reference the docket number for this special permit and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System; U.S. Department of Transportation, Docket Operations, M-30, West Building Ground Floor, Room W12-140, 1200 New Jersey Avenue, SE., Washington, DC 20590 between 9 a.m. and 5 p.m., Monday through Friday, except Federal holidays.

Instructions: Identify the docket number, PHMSA-2007-29078, at the beginning of your comments. If you submit your comments by mail, please submit two copies. To receive confirmation that PHMSA received your comments, include a self-addressed stamped postcard. Internet users may submit comments at http://www.regulations.gov. Note: Comments are posted without changes or edits to http://www.regulations.gov, including any personal information provided.

Privacy Act Statement: Anyone can search the electronic form of comments received in response to any of our dockets by the name of the individual submitting the comment (or signing the comment, if submitted on behalf of an association, business, labor union, etc.). DOT's complete Privacy Act Statement was published in the Federal Register on April 11, 2000 (65 FR 19477).

FOR FURTHER INFORMATION CONTACT: General: Kay McIver by telephone at (202) 366-0113; or, e-mail at kay.mciver@dot.gov.

Technical: Steve Nanney by telephone at (713) 272-2855; or, e-mail at steve.nanney@dot.gov.

SUPPLEMENTARY INFORMATION: PHMSA is reopening the comment period for 14 days from date of publication to allow for public review of documents recently added to the docket.

Authority: 49 U.S.C. 60118(c)(1) and 49 CFR 1.53.

Issued in Washington, DC, on January 19, 2010.
Jeffrey D. Wiese,
Associate Administrator for Pipeline Safety.

[FR Doc. 2010-1472 Filed 1-25-10; 8:45 am]

BILLING CODE 4910-60-P